DEPARTMENT OF DEFENSE

Office of the Secretary

[Transmittal No. 22-55]

Arms Sales Notification

Correction

In notice document 2024-18761 beginning on page 67624 in the issue of Wednesday, August 21, 2024, make the following correction:

The two letters appearing on pages 67624 and 67625 should not have been included in the document.

[FR Doc. C1-2024-18761 Filed 9-26-24; 8:45 am]

BILLING CODE 0099-10-D